DEPARTMENT OF COMMERCE

International Trade Administration

[A-570-905]

Notice of Antidumping Duty Order: Certain Polyester Staple Fiber from the People's Republic of China

AGENCY: Import Administration, International Trade Administration, Department of Commerce.

SUMMARY: Based on affirmative final determinations by the Department of Commerce (the “Department”) and the International Trade Commission (“ITC”), the Department is issuing an antidumping duty order on certain polyester staple fiber (“PSF”) from the People's Republic of China (“PRC”). On May 24, 2007, the ITC notified the Department of its affirmative determination of material injury to a U.S. industry. See Certain Polyester Staple Fiber from China, Investigation No. 731-TA-1104 (Final), USITC Publication 3922 (June 2007).

EFFECTIVE DATE: June 1, 2007.

FOR FURTHER INFORMATION CONTACT: Michael Holton or Paul Walker, AD/CVD Operations, Office 9, Import Administration, International Trade Administration, U.S. Department of Commerce, 14th Street and Constitution Avenue NW., Washington, DC 20230; telephone: (202) 482-1324, or (202) 482-0413, respectively.

SUPPLEMENTARY INFORMATION:

Background

In accordance with sections 735(d) and 777(i)(1) of the Tariff Act of 1930, as amended (the “Act”), on April 19, 2007, the Department published the Final Determination of Sales at Less Than Fair Value and Partial Affirmative Determination of Critical Circumstances: Certain Polyester Staple Fiber from the People's Republic of China, 72 FR 19690 (April 19, 2007) (“Final Determination”).

Scope of Order

The merchandise subject to this proceeding is synthetic staple fibers, not carded, combed or otherwise processed for spinning, of polyesters measuring 3.3 decitex (3 denier, inclusive) or more in diameter. This merchandise is cut to lengths varying from one inch (25 mm) to five inches (127 mm). The subject merchandise may be coated, usually with a silicon or other finish, or not coated. PSF is generally used as stuffing in sleeping bags, mattresses, ski jackets, comforters, cushions, pillows, and furniture.

The following products are excluded from the scope: (1) PSF of less than 3.3 decitex (less than 3 denier) currently classifiable in the Harmonized Tariff Schedule of the United States (“HTSUS”) at subheading 5503.20.0025 and known to the industry as PSF for spinning and generally used in woven and knit applications to produce textile and apparel products; (2) PSF of 10 to 18 denier that are cut to lengths of 6 to 8 inches and that are generally used in the manufacture of carpeting; and (3) low-melt PSF defined as a bi-component fiber with an outer, non-polyester sheath that melts at a significantly lower temperature than its inner polyester core (classified at HTSUS 5503.20.0015).

Certain PSF is classifiable under the HTSUS subheadings 5503.20.0045 and 5503.20.0065. Although the HTSUS subheadings are provided for convenience and customs purposes, the written description of the merchandise under the orders is dispositive.

Antidumping Duty Order

On May 24, 2007, in accordance with section 735(d) of the Act, the ITC notified the Department of its final determination, pursuant to section 735(b)(1)(A)(i) of the Act, that an industry in the United States is materially injured by reason of less-than-fair-value imports of subject merchandise from the PRC. Therefore, in accordance with section 736(a)(1) of the Act, the Department will direct U.S. Customs and Border Protection (“CBP”) to assess, upon further instruction by the Department, antidumping duties equal to the amount by which the normal value of the merchandise exceeds the export price (or constructed export price) of the merchandise for all relevant entries of PSF from the PRC. These antidumping duties will be assessed on all unliquidated entries of PSF from the PRC entered, or withdrawn from the warehouse, for consumption on or after December 26, 2006, the date on which the Department published its preliminary determination. See Preliminary Determination of Sales at Less Than Fair Value and Partial Affirmative Determination of Critical Circumstances: Certain Polyester Staple Fiber from the People's Republic of China, 71 FR 77373 (December 26, 2006) (“Preliminary Determination”).

With regard to the ITC's negative critical circumstances determination, we will instruct CBP to lift suspension, release any bond or other security, and refund any cash deposit made to secure the payment of antidumping duties with respect to entries of the merchandise entered, or withdrawn from warehouse, for consumption on or after September 27, 2006, but before December 26, 2006 (i.e., the 90 days prior to the date of publication of the Preliminary Determination).

Effective on the date of publication of the ITC's final affirmative injury determination, CBP, pursuant to section 735(c)(3) of the Act, will require, at the same time as importers would normally deposit estimated duties on this merchandise, a cash deposit equal to the estimated weighted-average antidumping duty margins as listed below. The “PRC-wide” rate applies to all exporters of subject merchandise not specifically listed. The weighted-average dumping margins are as follows:

PSF from the PRC - Weighted-average Dumping Margins
Exporter & Producer | Weighted-Average Deposit Rate
Cixi Jiangnan Chemical Co., Ltd. | de minimis
Far Eastern Industries (Shanghai) Ltd. | 3.47%%
Ningbo Dafa Chemical Fiber Co., Ltd. | 4.86%%
Cixi Sansheng Chemical Fiber Co., Ltd. | 4.44%%
Cixi Santai Chemical Fiber Co., Ltd. | 4.44%%
Cixi Waysun Chemical Fiber Co., Ltd. | 4.44%%
Hangzhou Best Chemical Fibre Co., Ltd. | 4.44%%
Hangzhou Hanbang Chemical Fibre Co., Ltd. | 4.44%%
Hangzhou Huachuang Co., Ltd. | 4.44%%
Hangzhou Sanxin Paper Co., Ltd. | 4.44%%
Hangzhou Taifu Textile Fiber Co., Ltd. | 4.44%%
Jiaxang Fuda Chemical Fibre Factory | 4.44%%
Nantong Luolai Chemical Fiber Co. Ltd. | 4.44%%
Nanyang Textile Co., Ltd. | 4.44%%
Suzhou PolyFiber Co., Ltd. | 4.44%%
Xiamen Xianglu Fiber Chemical Co. | 4.44%%
Zhaoqing Tifo New Fiber Co., Ltd. | 4.44%%
Zhejiang Anshun Pettechs Fibre Co., Ltd. | 4.44%%
Zhejiang Waysun Chemical Fiber Co., Ltd. | 4.44%%
PRC-Wide Rate | 44.30%%

This notice constitutes the antidumping duty order with respect to PSF from the PRC pursuant to section 736(a) of the Act. Interested parties may contact the Department's Central Records Unit, Room B-099 of the main Commerce building, for copies of an updated list of antidumping duty orders currently in effect.

This order is published in accordance with section 736(a) of the Act and 19 CFR 351.211.

Dated: May 21, 2007.
David M. Spooner,
Assistant Secretary for Import Administration.

[FR Doc. E7-10607 Filed 5-31-07; 8:45 am]

BILLING CODE 3510-DS-S